DEPARTMENT OF COMMERCE

National Oceanic and Atmospheric Administration

RIN 0649-XE447

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Standing and Special Shrimp Scientific and Statistical Committee (SSC).

DATES: The meeting will convene via WEBINAR on Tuesday, March 8, 2016 from 1 p.m. to 3 p.m. EST; you may register for the webinar at: https://attendee.gotowebinar.com/register/1004643937909180674.

After registering, you will receive a confirmation email containing information about joining the webinar.

ADDRESSES: Council address: Gulf of Mexico Fishery Management Council, 2203 N. Lois Avenue, Suite 1100, Tampa, FL 33607; telephone: (813) 348-1630.

FOR FURTHER INFORMATION CONTACT: Morgan Kilgour, Fishery Biologist, morgan.kilgour@gulfcouncil.org; Gulf of Mexico Fishery Management Council telephone: (813) 348-1630.

SUPPLEMENTARY INFORMATION:

Agenda

The Chairman will start the meeting with introductions and adoption of agenda, approval of minutes from the March 10-12, 2015 Standing, Special Reef Fish, Special Shrimp, and Special Spiny Lobster Scientific and Statistical Committee (SSC) meeting, and selection of an SSC representative to attend the April, 2016 Council Meeting. The SSC will review updated Penaeid Shrimp Stock Assessments and review an update on the Aggregate Maximum Sustainable Yield (MSY) and Optimum Yield (OY) Working Group. Lastly, the SSC will discuss other business, if any.

—Meeting Adjourns—

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest.” Click on the “Library Folder,” then scroll down to “SSC meeting-2016-03.”

The meeting will be webcast over the internet. A link to register for the webcast is available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: February 12, 2016.
Tracy Thompson,
Acting Director, Office of Sustainable Fisheries, National Marine Fisheries Service.

[FR Doc. 2016-03339 Filed 2-17-16; 8:45 am]

BILLING CODE 3510-22-P